DEPARTMENT OF THE INTERIOR

Geological Survey

Agency Information Collection Activities: Submitted for Office of Management and Budget (OMB) Review; Comment Request

AGENCY: U.S. Geological Survey (USGS), Interior.

ACTION: Notice of an extension of an information collection (1028-0078).

SUMMARY: To comply with the Paperwork Reduction Act of 1995 (PRA), we are notifying the public that we have submitted to OMB an information collection request (ICR) to renew approval of the paperwork requirements for “North American Amphibian Monitoring Program.” This notice also provides the public a second opportunity to comment on the paperwork burden of this form.

DATES: Submit written comments by April 30, 2008.

ADDRESSES: Please submit comments on this information collection directly to the Office of Management and Budget (OMB), Office of Information and Regulatory Affairs, Attention: Desk Officer for the Department of the Interior via OMB e-mail: (OIRA_DOCKET@omb.eop.gov); or by fax (202) 395-6566; and identify your submission with #1028-0078.

Please also submit a copy of your comments to the Department of the Interior, USGS, via:

• E-mail: atravnic@usgs.gov. Use Information Collection Number 1028-0078 in the subject line.

• FAX: (703) 648-7069. Use Information Collection Number 1028-0078 in the subject line.

• Mail or hand-carry comments to the Department of the Interior; USGS Clearance Officer, U.S. Geological Survey, 807 National Center, Reston, VA 20192. Please reference Information Collection 1028-0078 in your comments.

FOR FURTHER INFORMATION CONTACT: Linda Weir at (301) 497-5932. Copies of the full Information Collection Request and the forms can be obtained at no cost at http://www.reginfo.gov or by contacting the USGS clearance officer at the phone number listed below.

SUPPLEMENTARY INFORMATION: Title: North American Amphibian Monitoring Program (NAAMP).

OMB Control Number: 1028-0078.

Abstract: The North American Amphibian Monitoring Program (NAAMP) is a long-term, large-scale anuran monitoring program to track the status and trends of eastern and central North American frogs and toads. Volunteers conduct calling surveys three times per year, depending on the regional species assemblage. Volunteers listen for 5 minutes at 10 stops along the route. Data are submitted electronically via the Internet or on hard copy. These data will be used to estimate population trends at various geographic scales and assist with documenting species distribution.

Frequency: 3 times per year.

Estimated Number and Description of Respondents: Approximately 500 volunteer respondents per year.

Estimated Number of Responses: 1,500.

Annual burden hours: 4,500 hours.

Estimated Annual Reporting and Recordkeeping “Hour” Burden: We estimate the public reporting burden averages 3 hours per response. This includes the time for driving to/from the survey route locations, 5-minute listening period per sampling station (10 sampling stations per route) and data entry time to submit data to the NAAMP Web site.

Estimated Reporting and Recordkeeping “Non-Hour Cost” Burden: We estimate the total “non-hour” cost burden to be $11,500. This total includes a one-time cost per respondent for the purchase of a thermometer to record air temperature during the survey, plus the operational costs of mileage for conducting the surveys.

Public Disclosure Statement: The PRA (44 U.S.C. 3501, et seq.) provides that an agency may not conduct or sponsor, and you are not required to respond to, a collection of information unless it displays a currently valid OMB control number. Until OMB approves a collection of information, you are not obligated to respond.

Comments: Before submitting an ICR to OMB, PRA section 3506(c)(2)(A) (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on January 25, 2008, we published a Federal Register notice (73 FR 4620) announcing that we would submit this ICR to OMB for approval. The notice provided the required 60-day public comment period. We have received two comments in support of the survey. The comments had no effect on the burden.

USGS Information Collection Clearance Officer: Alfred Travnicek, 703-648-7231.

Dated: March 17, 2008.
Susan D. Haseltine,
Associate Director for Biology.

[FR Doc. E8-6612 Filed 3-28-08; 8:45 am]

BILLING CODE 4311-AM-P